ENVIRONMENTAL PROTECTION AGENCY

[FRL-9918-92-Region-6]

Proposed Administrative Settlement Pursuant to the Comprehensive Environmental Response, Compensation, and Liability Act

AGENCY: Environmental Protection Agency.

ACTION: Notice; request for public comment.

SUMMARY: In accordance with Section 122(i) of the Comprehensive Environmental Response, Compensation, and Liability Act, as amended (“CERCLA”), 42 U.S.C. 9622(i), notice is hereby given of a proposed administrative settlement concerning the EXPLO Systems, Inc., Superfund Site (“Site”), generally located on a portion of Camp Minden, Webster Parrish, Louisiana.

This Settlement Agreement provides for the performance of a removal action by Settling Respondent, the payment of certain response costs incurred by Settling Respondent by the Settling Federal Agency, and the payment of certain response costs incurred by the United States, by the Settling Respondent at or in connection with the Site.

For thirty (30) days following the date of publication of this notice, the U.S. Environmental Protection Agency (“Agency”) will receive written comments solely on the Agency's cost recovery component, at Paragraphs 38.a and 38.1a, of this Settlement Agreement. The Agency may withhold consent from or seek to modify the Agency's cost recovery component, at Paragraphs 38.a and 38.1a, of the Settlement Agreement, if comments received disclose facts or considerations which indicate that the Settlement Agreement is inappropriate, improper, or inadequate. The Agency's response to any comments received will be available for public inspection at 1445 Ross Avenue, Dallas, Texas 75202-2733.

DATES: Comments must be submitted on or before December 8, 2014.

ADDRESSES: The proposed settlement and additional background information relating to the settlement are available for public inspection at 1445 Ross Avenue, Dallas, Texas 75202-2733. A copy of the proposed settlement may be obtained from Cynthia Brown at 1445 Ross Avenue, Dallas, Texas 75202-2733 or by calling (214) 665-7480. Comments should reference the EXPLO Systems, Inc., Superfund Site, Camp Minden, Webster Parrish, Louisiana, and EPA Docket Number 06-08-14, and should be addressed to Cynthia Brown at the address listed above.

FOR FURTHER INFORMATION CONTACT: George Malone, Assistant Regional Counsel, 1445 Ross Avenue, Dallas, Texas 75202-2733 or call (214) 665-8030.

Dated: October 22, 2014.
James McDonald,
Acting Regional Administrator.

[FR Doc. 2014-26450 Filed 11-6-14; 8:45 am]

BILLING CODE 6560-50-P